DEPARTMENT OF COMMERCE

International Trade Administration

[A-570-831]

Fresh Garlic From the People's Republic of China: Extension of Time Limit for Final Results of the Antidumping Duty Administrative Review

AGENCY: Import Administration, International Trade Administration, Department of Commerce.

DATES: Effective Date: February 24, 2011.

FOR FURTHER INFORMATION CONTACT: Scott Lindsay, Lingjun Wang, or David Lindgren, AD/CVD Operations, Office 6, Import Administration, International Trade Administration, U.S. Department of Commerce, 14th Street and Constitution Avenue, NW., Washington, DC 20230; telephone: (202) 482-0780, (202) 482-2316, and (202) 482-3870, respectively.

Background

On December 23, 2009, the Department of Commerce (Department) published the initiation of the 2008-2009 administrative review of fresh garlic from the People's Republic of China. See Initiation of Antidumping and Countervailing Duty Administrative Reviews and Request for Revocation in Part, 74 FR 68229, 68230-68231 (December 23, 2009). On December 22, 2010, the Department published the preliminary results of this antidumping duty administrative review. See Fresh Garlic from the People's Republic of China: Preliminary Results of, Partial Rescission of, and Intent to Rescind, in Part, the 15th Antidumping Duty Administrative Review, 75 FR 80458 (December 22, 2010) (Preliminary Results). The period of review for this administrative review is November 1, 2008, through October 31, 2009. The final results are currently due on April 21, 2011.

Extension of Time Limit for Final Results

Section 751(a)(3)(A) of the Tariff Act of 1930, as amended (the Act), provides that the Department will issue the final results in an administrative review of an antidumping duty order within 120 days after the date on which the preliminary results are published. However, the Department may extend the deadline for completion of the final results of an administrative review to 180 days if it determines it is not practicable to complete the review within the foregoing time period. See section 751(a)(3)(A) of the Act and 19 CFR 351.213(h)(2).

The Department determines that it is not practicable to complete the final results of this administrative review by the current deadline of April 21, 2011. Specifically, the Department requires additional time to conduct verification and analyze issues raised by interested parties. Therefore, in accordance with section 751(a)(3)(A) of the Act, the Department has decided to extend the time limit for the final results from 120 days to 180 days; the final results will now be due no later than June 20, 2011.

This notice is issued and published in accordance with sections 751(a)(1) and 777(i)(1) of the Act.

Dated: February 15, 2011.
Christian Marsh,
Deputy Assistant Secretary for Antidumping and Countervailing Duty Operations.

[FR Doc. 2011-4190 Filed 2-23-11; 8:45 am]

BILLING CODE 3510-DS-P